FEDERAL RETIREMENT THRIFT INVESTMENT BOARD

Sunshine Act Meeting

TIME AND DATE: 9 a.m. (EDT); September 11, 2000.

PLACE: 4th Floor, Conference Room, 1250 H Street, NW., Washington, DC

STATUS: Open.

MATTERS TO BE CONSIDERED:

1. Approval of the minutes of the August 14, 2000, Board member meeting.

2. Thrift Savings Plan activity report by the Executive Director.

3. Review of status of new system project by Messrs. Petrick and Stiffler.

4. Review of FY 2000 budget and projected expenditures, approval of FY 2001 proposed budget, and review of FY 2002 estimates.

CONTACT PERSON FOR MORE INFORMATION: Thomas J. Trabucco, Director, Office of External Affairs, (202) 942-1640.

Dated: September 5, 2000.
Elizabeth S. Woodruff,
General Counsel, Federal Retirement Thrift Investment Board.

[FR Doc. 00-23194 Filed 9-6-00; 10:36 am]

BILLING CODE 6760-01-M